DEPARTMENT OF DEFENSE

Department of the Army; Corps of Engineers

Intent To Prepare a Programmatic Draft Environmental Impact Statement/Environmental Impact Report for the Los Angeles River Ecosystem Restoration Study, Los Angeles, CA

AGENCY: Department of the Army, U.S. Army Corps of Engineers, DoD.

ACTION: Notice of intent.

SUMMARY: The study area is located within the Los Angeles Basin on a broad alluvial plain flanked by the Santa Monica Mountains, to the west, and by the San Gabriel Mountains to the northeast. The Los Angeles River flows from the headwaters of Bell Creek and Calabasas Creek in the San Fernando Valley community of Canoga Park southeast through the San Fernando Valley some 35 miles to downtown Los Angeles. From there it continues in a southerly direction until it empties into the Pacific Ocean at Long Beach. The specific study area comprises the 32 miles of the River within the City of Los Angeles that extends from Owensmouth Avenue, in the upper reaches of northwest San Fernando Valley, to the border of the City of Vernon, at the southern end of Downtown Los Angeles. The study proposes to consider a range of activities to restore riparian and aquatic habitat, and related habitat functions, in and adjacent to the Los Angeles River. Compatible activities to conserve cultural resources, and to provide recreational and interpretive amenities, will also be considered.

Purpose: The purpose of this study is to identify a range of opportunities to improve the general environment of the Los Angeles River through ecosystem restoration and related measures. The study area includes several locations where potential exists for restoring a more natural riverine environment along the Los Angeles River, while maintaining and improving levels of flood protection. Creation of treatment wetlands in and around the river, to treat effluent river flows and to restore missing linkages of fragmented habitat, would also be pursued. Restored areas would provide natural riparian habitat to support indigenous wildlife and avifauna along a corridor transecting most of the San Fernando Valley, and extending into downtown Los Angeles. Other purposes include provision of public access to the river, identification of incidental recreation space, and delineation of trails. Site-specific Environmental Impact Statement-Environment Impact Reports (EIS/EIR) would be prepared in the future to evaluate and document individual projects that may result from this study.

ADDRESSES: U.S. Army Corps of Engineers, Los Angeles District, Environmental Resources Branch, CESPL-PD-RN, 915 Wilshire Boulevard, Los Angeles, CA 90017. Attention to Randy Tabije, Ecosystem Planning.

FOR FURTHER INFORMATION CONTACT: Randy Tabije, Environmental Coordinator, (213) 452-3871 or e-mail at Roland.R.Tabije@usace.army. mil.

SUPPLEMENTARY INFORMATION:

1. Authorization. The proposed feasibility study was authorized under Congressional Resolution, which reads as follows:

Senate Resolution, approved 25 June 1969, reading in part: “Resolved by the Committee on Public Works of the United States Senate, that the Board of Engineers for Rivers and Harbors, created under section 3 of the River and Harbor Act, approved June 13, 1902, be, and is hereby requested to review the report of the Chief of Engineers on the Los Angeles and San Gabriel Rivers and Ballona Creek, California, published as House Document Numbered 838, Seventy-sixth Congress, and other pertinent reports, with a view to determining whether any modifications contained herein are advisable at the present time, in the resources in the Los Angeles County Drainage Area.”

2. Background. The Los Angeles River is subject to serious flooding and experienced two major floods in the 1930's that caused substantial loss of life and substantial property damage. During the late 1930's, in response, the Federal Government constructed the concrete flood control channel in the Los Angeles River. The City of Los Angeles and other local agencies have expressed interest and early support for a feasibility study that would evaluate the potential for restoration of environmental resources on the Los Angeles River.

3. Proposed Objectives. The proposed objectives are as follows:

a. Restore a more natural riverine environment along the river.

b. Improve water quality by developing treatment wetlands to treat effluent river flows.

c. Restore and re-connect fragmented wetland habitats.

d. Within the Los Angeles Basin, maintain and improve current levels of flood protection.

e. Protect the community's cultural and historic resources along this reach of the River, while improving connectivity and public access to historical and cultural sites in this area.

f. Visually improve the River's scenic values through environmental restoration.

g. Improve linkages to existing recreational features in the vicinity of the River, and enhance open space along the River.

h. Better manage, optimize and conserve water resources.

i. Restore, protect, and augment habitat quality, quantity, and connectivity. Based on these objectives, the programmatic EIS/EIR would evaluate a range of potential alternative sites as a basis for selecting site specific improvements.

4. Scoping Process. a. Potential impacts associated with the proposed action will be evaluated. Resource categories that will be analyzed include: land use, physical environment, geology, biological resources, agricultural resources, air quality, ground water, recreational usage, aesthetics, cultural resources, transportation, communications, hazardous waste, socioeconomics and safety.

b. Participation of affected Federal, State and local resource agencies, native American groups and concerned interest groups/individuals is encouraged in the scoping process. Time and location of the Public Scoping meetings will be announced by means of letters, public announcements and news releases. Public participation will be especially important in defining the scope of analysis in the EIS/EIR, identifying potentially significant environmental issues, and obtaining relevant published and unpublished data, gathering personal input on relevant issues, and identifying acceptable mitigative measures for proposed actions. Those interested in providing information or data relevant to the environmental or social impacts to be included or considered in the environmental analysis can furnish this information by writing to the points of contact indicated above, or by attending a public scoping meeting. A mailing list will also be established so pertinent data may be distributed to interested parties.

Dated: January 27, 2006.
Mark R. Blackburn,
Lieutenant Colonel, U.S. Army Deputy District Engineer.

[FR Doc. 06-1052 Filed 2-3-06; 8:45 am]

BILLING CODE 3710-KF-M